Proclamation 9891 of May 17, 2019

World Trade Week, 2019

By the President of the United States of America

A Proclamation

Free, fair, and reciprocal trade is essential to American and global prosperity. During World Trade Week, we reaffirm our unwavering commitment to ensuring that our Nation's farmers, ranchers, manufacturers, and entrepreneurs are able to sell their goods and services in the global market on a level playing field. We also celebrate mutually beneficial and balanced trade between nations and pledge to continue pressing those countries that persist with one-sided trade polices to abandon them.

Our Nation is benefiting from a booming economy that is improving the lives of hardworking Americans and their families. Since my election, we have witnessed the creation of more than 5.8 million new jobs, including approximately 500,000 new manufacturing jobs. American gross domestic product grew at nearly 3 percent last year, and at a rate of 3.2 percent in the first quarter of this year. As a result, wages are rising at the fastest pace in a decade. This economic success is a testament to the effectiveness of my Administration's tax, regulatory, and tariff and trade policies.

With a level playing field, American workers and producers can compete with any nation in the world. In recent years, however, our prosperity has been hampered by the growing economic aggression and unfair trading practices of other countries. Nations that do not share our free market values have used dumping and industrial subsidies, discriminatory non-tariff barriers, forced technology transfers, excess capacity, cyber and hacking attacks, and other forms of economic aggression to gain unfair competitive advantages over American workers and producers. My Administration is using every available tool to confront these burdensome, market-distorting trade practices. We are aggressively enforcing the well-established trade laws of the United States, and we are negotiating new trade agreements to address unfair trade practices and remove barriers to the export of our goods and services.

My Administration's leadership in strongly pursuing fair trade is enabling our Nation's firms to compete on a more level, fair playing field. We are working to modernize and improve our agreements, negotiating new trade deals that protect our national security and are based on fairness and reciprocity. For example, we revised one of our most significant trade deals, the United States-Korea Free Trade Agreement (KORUS), to make it far more beneficial to American workers.

In addition, with the signing of the United States-Mexico-Canada Agreement (USMCA), I delivered on my promise to renegotiate the outdated and unbalanced North American Free Trade Agreement (NAFTA). Once approved by the Congress, the USMCA will help address longstanding trade imbalances by granting American businesses across all sectors of our economy greater freedom to sell their goods and services throughout North America. The successful conclusion of both KORUS and USMCA shows that new trade deals that work for all Americans—and not just some—are possible. My Administration is also actively engaged in negotiations with the European Union, the United Kingdom, and Japan to secure broader market access for American products and services.

The United States and our trading partners benefit greatly from free, fair, balanced, and reciprocal trade. This week, we renew our commitment to addressing persistent trade imbalances, breaking down trade barriers, and providing Americans new opportunities to increase exports. Greater transparency in global trade and predictable business climates in economies that adhere to high standards for trade and investment will bring greater prosperity to our Nation and the world.

NOW, THEREFORE, I, DONALD J. TRUMP, President of the United States of America, by virtue of the authority vested in me by the Constitution and the laws of the United States, do hereby proclaim May 19 through May 25, 2019, as World Trade Week. I encourage Americans to observe this week with events, trade shows, and educational programs that celebrate the benefits of trade to our country.

IN WITNESS WHEREOF, I have hereunto set my hand this seventeenth day of May, in the year of our Lord two thousand nineteen, and of the Independence of the United States of America the two hundred and forty-third.

[FR Doc. 2019-10866

Filed 5-21-19; 11:15 am]

Billing code 3295-F9-P